DEPARTMENT OF AGRICULTURE

Farm Service Agency

Information Collection; General Program Administration

AGENCY: Farm Service Agency, USDA.

ACTION: Notice; request for comments.

SUMMARY: In accordance with the Paperwork Reduction Act of 1995, the Farm Service Agency (FSA) is seeking comments from all interested individuals and organizations on an extension of a currently approved information collection associated with FSA's Farm Loan Programs (FLP) General Program Administration. The information collected is used to ensure that applicants meet statutory eligibility requirements, loan funds are used for authorized purposes and the Government's interest in security is adequately protected.

DATES: We will consider comments that we receive by November 5, 2013.

ADDRESSES: We invite you to submit comments on this notice. In your comments, include date, volume, and page number of this issue of the Federal Register. You may submit comments by any of the following methods:

• Federal Rulemaking Portal: Go to http://www.regulations.gov. Follow the online instructions for submitting comments.

• Mail: Courtney Dixon, Director, USDA/FSA/FLP, STOP 0521, 1400 Independence Avenue SW., Washington, DC 20250-0521.

You may also send comments to the Desk Officer for Agriculture, Office of Information and Regulatory Affairs, Office of Management and Budget, Washington, DC 20253. Copies of the information collection may be requested by contacting Courtney Dixon at the above address.

FOR FURTHER INFORMATION CONTACT: Niki Chavez, Farm Service Agency, (202) 690-6129.

SUPPLEMENTARY INFORMATION: Title: Farm Loan Programs, General Program Administration.

OMB Control Number: 0560-0238.

Expiration Date of Approval: 02/28/2014.

Type of Request: Extension.

Abstract: General Program Administration, as specified in the 7 CFR part 761, contains requirements that are applicable to making and servicing direct loans. Information and collections required are necessary to ensure that applicants meet statutory eligibility requirements, loan funds are used for authorized purposes and the Federal Government's interest in security is adequately protected. Specific information collection requirements include financial information in the form of a balance sheet and cash flow projection used in loan making and servicing decisions; information needed to establish joint bank accounts in which loan funds, proceeds derived from the sale of loan security and insurance proceeds may be deposited; collateral pledges from financial institutions when the balance of a supervised bank account will exceed $250,000; and documents that construction plans and specifications comply with state and local building standards.

Estimate of Average Time to Respond: 1.12 per response. The average travel time, which is included in the total annual burden, is estimated to be 1 hour per respondent.

Respondents: Individuals or households, businesses or other for profit and farms.

Estimated Number of Respondents: 94,942.

Estimated Number of Responses per Respondent: 2.4.

Estimated Number of Responses: 225,352.

Estimated Total Annual Burden Hours: 252,944.

We are requesting comments on all aspects of this information collection to help us to:

(1) Evaluate whether the collection of information is necessary for the proper performance of the functions of FSA, including whether the information will have practical utility;

(2) Evaluate the accuracy of the FSA's estimate of burden including the validity of the methodology and assumptions used;

(3) Enhance the quality, utility, and clarity of the information to be collected; and

(4) Minimize the burden of the collection of the information on those who are to respond, including through the use of appropriate automated, electronic, mechanical or other technological collection techniques or other forms of information technology.

All responses to this notice, including name and addresses when provided, will be summarized and included in the request for OMB approval. All comments will also become a matter of public record.

Signed on August 9, 2013.
Juan M. Garcia,
Administrator, Farm Service Agency.

[FR Doc. 2013-21761 Filed 9-6-13; 8:45 am]

BILLING CODE 3410-05-P